DEPARTMENT OF AGRICULTURE

National Institute of Food and Agriculture

[Docket No. NIFA-2018-001]

Notice of Public Meeting for the Interagency Working Group on Aquaculture

AGENCY: National Institute of Food and Agriculture, USDA.

ACTION: Notice of public meeting for the Interagency Working Group on Aquaculture of the Committee on Science of the National Science and Technology Council.

SUMMARY: The U.S. Department of Agriculture (USDA) National Institute of Food and Agriculture (NIFA) is publishing this notice on behalf of the Interagency Working Group on Aquaculture (IWGA) of the Committee on Science of the National Science and Technology Council to announce a public meeting of this group. This public meeting provides an opportunity for the IWGA to discuss ongoing and planned activities in support of aquaculture development in the United States with stakeholders. In turn, this meeting provides an opportunity for the stakeholders to discuss issues of relevance to the IWGA members in attendance.

DATES: The meeting is scheduled for Tuesday, February 20, 2018 from 1:30 p.m. until 5:00 p.m. local time (Pacific Time).

ADDRESSES: The Aquaculture America 2018 Conference will take place at Paris Las Vegas Hotel, 3655 Las Vegas Boulevard South Las Vegas, NV 89109. See SUPPLEMENTARY INFORMATION for additional information.

FOR FURTHER INFORMATION CONTACT: IWGA Chair and Aquaculture National Program Leader Dr. Gene Kim, USDA NIFA; email Gene.W.Kim@nifa.usda.gov.

SUPPLEMENTARY INFORMATION: The Interagency Working Group on Aquaculture (formerly known as the Joint Subcommittee on Aquaculture) was created by the National Aquaculture Act of 1980 (Pub. L. 96-362, 94 Stat. 198, 16 U.S.C. 2801, et seq.) and is chaired by the Department of Agriculture, with vice-chairs from the Department of Commerce and Department of the Interior. The IWGA reports to the Committee on Science of the National Science and Technology Council. The purpose of the coordinating group is to increase the overall effectiveness and productivity of Federal aquaculture research, transfer, and assistance programs. In fulfilling this purpose, the coordinating group:

(1) Reviews the national needs for aquaculture research, technology transfer and technology assistance programs;

(2) Undertakes planning, coordination, and communication among Federal agencies engaged in the science, engineering, and technology of aquaculture;

(3) Collects, compiles, and disseminates information on aquaculture;

(4) Encourages joint programs among Federal agencies in areas of mutual interest relating to aquaculture; and

(5) Recommends specific actions on issues, problems, plans, and programs in aquaculture.

The IWGA addresses issues of national scope and importance and may form national task forces or special projects to facilitate a coordinated, systematic approach to addressing critical issues and needs. More information is available at http://www.ars.usda.gov/iwga.

This notice invites the public to participate in this IWGA meeting. The location is at the Aquaculture America 2018 Conference venue, which allows for stakeholder interaction at what likely is the largest gathering of U.S. aquaculture research, extension, and private sector representatives. Attendance or response to this notice is voluntary. We are not requesting information as part of an ongoing regulatory process. Although this will be a discussion of stakeholder issues of concern, will not be considered formal public input on regulations, as the IWGA is not a regulatory body. Responses to this notice may be used by the government for program planning on a non-attribution basis. Information obtained from the discussions occurring during this meeting may be used for program planning and federal coordination among Federal agencies, and may guide future Federal agencies' activities that are national in scope. USDA requests that no business proprietary information or copyrighted information be submitted in response to this notice. No registration or fee is needed to attend this IWGA meeting. Please note that there will be no other method for interaction for this meeting, aside from in-person attendance. Participants are encouraged, but not required, to email their contact information to the email address below for planning purposes: Dr. Maxwell Mayeaux, Aquaculture Program Specialist, USDA NIFA at: mmayeaux@nifa.usda.gov.

The agenda for this meeting is as follows:

Agenda

I. Overview of Interagency Working Group on Aquaculture Activities

II. Reports on Federal Interagency Initiatives

a. Agency updates on regulatory reform

b. Overview of national aquaculture statistics reporting and the Census of Aquaculture

c. Interagency collaboration on research, extension and outreach activities

d. Other Agency Updates

III. Public questions and discussion on IWGA activities

Done at Washington, DC, on January 19, 2018.
Sonny Ramaswamy,
Director, National Institute of Food and Agriculture.

[FR Doc. 2018-01577 Filed 1-26-18; 8:45 am]

BILLING CODE 3410-22-P